DEPARTMENT OF TRANSPORTATION

Federal Highway Administration

[Docket No. FHWA-2009-0053]

Agency Information Collection Activities: Request for Comments for New Information Collection; Truck Congestion Information Assessment

AGENCY: Federal Highway Administration (FHWA), DOT.

ACTION: Notice and request for comments.

SUMMARY: The FHWA invites public comments about our intention to request the Office of Management and Budget's (OMB) approval for a new information collection, which is summarized below under SUPPLEMENTARY INFORMATION. We published a Federal Register Notice with a 60-day public comment period on this information collection on February 26, 2009. We are required to publish this notice in the Federal Register by the Paperwork Reduction Act of 1995.

DATES: Please submit comments by June 19, 2009.

ADDRESSES: You may submit comments identified by DOT Docket ID Number FHWA-2009-0053 by any of the following methods:

Web Site: For access to the docket to read background documents or comments received go to the Federal eRulemaking Portal: http://www.regulations.gov.

Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: David Jones, 202-366-5053, Federal Highway Administration, Department of Transportation, Office of Highway Policy Information, 1200 New Jersey Avenue, SE., Washington, DC 20590. Office hours are from 8 a.m. to 5 p.m., Monday through Friday, except Federal holidays.

SUPPLEMENTARY INFORMATION: Title: Truck Congestion Information Assessment.

Background: The Federal Highway Administration's (FHWA) ability to assess congestion is critical for our national leadership role. Highway traffic congestion causes an estimated 3.5 billion hours of delays per year in 75 of the largest metropolitan areas. The volume of freight, the mix of goods, and the way they are moved has changed dramatically and highway system improvements have not kept pace with the growth and demand for freight transportation, resulting in congestion on our Nation's highways and straining other freight modes as well.

The purpose of this research is to collect highway congestion information to assess highway system performance and validate findings of the report on bottlenecks produced from Speed, Highway Performance Monitoring System (HPMS) and Freight Analysis Framework (FAF) data.

The selected service provider will establish, promote, collect and analyze data from a developed system to provide easy access 24 hours a day, 7 days a week allowing the roadway user a convenient way to report areas of heavy congestion and bottleneck conditions at any point in time encountered nationally on the highway system. Roadside users can report information by using an automated phone system or the Internet. The information from the user will be date, time, state, and highway route number, direction of travel, mile marker and weather condition. The reporting from the roadside user is voluntary.

Respondents: Approximately 1200 Interstate roadway users daily, with the majority being truck drivers.

Frequency: Every day for 3 years.

Estimated Average Burden per Response: Each response will be approximately 1 minute.

Estimated Total Annual Burden Hours: Approximately 4,380 hours in the first year, 7,665 the second year, and 9,855 the third year. Totaling 21,900 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: May 14, 2009.
James R. Kabel,
Chief, Management Programs and Analysis Division.

[FR Doc. E9-11727 Filed 5-19-09; 8:45 am]

BILLING CODE 4910-22-P